DEPARTMENT OF THE INTERIOR

National Park Service

Notice of Intent To Prepare a General Management Plan and Environmental Impact Statement for Agate Fossil Beds National Monument, Nebraska

AGENCY: National Park Service, Department of the Interior.

SUMMARY: Under the provisions of the National Environmental Policy Act of 1969 (42 U.S.C. 4321 et seq.), the National Park Service (NPS) is preparing an Environmental Impact Statement (EIS) for a General Management Plan (GMP) for the Agate Fossil Beds National Monument (Monument). The GMP will prescribe the resource conditions and visitor experiences that are to be achieved and maintained at the Monument over the next 15 to 20 years.

To facilitate sound planning and environmental assessment, the NPS intends to gather information necessary for the preparation of the EIS and obtain suggestions and information from other Agencies and the public on the scope of issues to be addressed in the EIS. Comments and participation in this scoping process are invited. Participation in the planning process will be encouraged and facilitated by various means, including newsletters and public meetings. The NPS will conduct public scoping meetings to explain the planning process and to solicit opinion about issues to address in the GMP/EIS. Notification of all such meetings will be announced in the local press and in NPS newsletters.

ADDRESSES: Additionally, if you wish to comment on any issues associated with the GMP, you may submit your comments by any one of several methods. You may mail or hand-deliver comments to the Superintendent, Agate Fossil Beds National Monument, 301 River Road, Harrison, Nebraska 69346-2743. You also may provide comments electronically by entering them into the NPS's Planning, Environment, and Public Comment Web site http://parkplanning.nps.gov. Information will be available for public review and comment from the Office of the Superintendent at the above address.

Requests to be added to the project mailing list should be sent by mail to Pamela Carey, Agate Fossil Beds National Monument, 301 River Road, Harrison, Nebraska 69346-2743, by telephone 308-668-2211 or by e-mail to Pamela_Carey@nps.gov.

Before including your address, telephone number, e-mail address, or other personal identifying information in your comments, you should be aware that your entire comments (including your personal identifying information) may be made publicly available at any time. While you can ask us in your comments to withhold your personal identifying information from public review, we cannot guarantee that we will be able to do so. We will make all submissions from organizations or businesses, from individuals identifying themselves as representatives or officials, or organizations or businesses, available for public inspection in their entirety.

FOR FURTHER INFORMATION CONTACT: Superintendent Blanca Stransky, Agate Fossil Beds National Monument, 301 River Road, Harrison, Nebraska 69346-2743, telephone 308-668-2211.

SUPPLEMENTARY INFORMATION: Agate Fossil Beds National Monument, located in western Nebraska, was established in 1965 to preserve paleontological and geological sites and to protect and exhibit a collection of American Indian artifacts. The park is currently operating under a 1965 Master Plan, which is outdated because of several additions to the infrastructure that require new management direction. The park also needs to identify major program areas, provide a context for activities, and program planning.

The GMP will prescribe the resource conditions and visitor experiences that are to be achieved and maintained in the Monument over the next 15 to 20 years. The clarification of what must be achieved according to law and policy will be based on review of the unit's purpose, significance, special mandates, and the body of laws and policies directing park management. Based on determinations of desired conditions, the GMP will outline kinds of resource management activities, visitor activities, and appropriate future development. A range of reasonable management alternatives will be developed through this planning process and will include, at a minimum, a no-action alternative, and a preferred alternative. To facilitate sound analysis of environmental impacts, the NPS is gathering information necessary for the preparation of an associated EIS.

Dated: July 20, 2007.
Ernest Quintana,
Regional Director, Midwest Region.

[FR Doc. E7-18219 Filed 9-14-07; 8:45 am]

BILLING CODE 4312-BR-P